DEPARTMENT OF COMMERCE

National Oceanic and Atmospheric Administration

RIN 0648-XA725

Endangered and Threatened Species; Counterpart Regulations

AGENCY: National Marine Fisheries Service (NMFS), National Oceanic and Atmospheric Administration (NOAA), Commerce; Fish and Wildlife Service (USFWS), Interior.

ACTION: Notice of availability.

SUMMARY: The U.S. Forest Service and Bureau of Land Management (together, action agencies) in coordination with the USFWS and NMFS, have agreed to revoke the March 4, 2004, National Fire Plan Counterpart Regulation Alternative Consultation Agreements (ACAs).

DATES: This is effective on October 1, 2011.

ADDRESSES: The final decision of revocation is available on the internet at http://www.nmfs.noaa.gov/pr/laws/esa/policies.htm#consultation and http://www.fws.gov/endangered/esa-library/index.html. Action Agency documents, as well as supporting documentation used in the preparation of this decision, will be available for public inspection, by appointment, during normal business hours at: NMFS Office of Protected Resources, 1315 East-West Highway, Room 13535, Silver Spring, MD 20910 or USFWS, 4401 N. Fairfax Drive, Arlington, VA 22203.

FOR FURTHER INFORMATION CONTACT: Angela Somma, NMFS, at 301-427-8474 or by fax at 301-713-0376; or Rick Sayers, USFWS at 703-358-2171 or by fax at 703-358-1735.

SUPPLEMENTARY INFORMATION: Section 7(a)(2) of the Endangered Species Act of 1973, as amended (16 U.S.C. 1531 et seq.; hereafter ESA) requires federal agencies, in consultation with, and with the assistance of, the Secretaries of Commerce and Interior, to insure that any action they authorize, fund, or carry out is not likely to jeopardize the continued existence of endangered or threatened species or destroy or adversely modify designated critical habitat. The principles, practices, and protocols for section 7 consultations are identified in the ESA, and regulations promulgated in 1986 for implementing section 7 (50 CFR, part 402), further expound the procedural and substantive requirements for consultation. The counterpart regulations provide an optional alternative to the standard section 7 consultation process, and were developed specifically for agency projects that authorize, fund, or carry out actions that support the National Fire Plan. Upon entering into an ACA with the Services, action agencies may make “not likely to adversely affect” determinations for National Fire Plan projects without consulting with the Services. The March 4, 2004, ACAs included specific requirements for reporting and conducting periodic program monitoring of the use of the counterpart regulations.

NMFS and USFWS reviewed the projects carried out during years two through four by the action agencies. Based on results of the review of these projects, the relatively limited use of the counterpart regulations since their inception, the action agencies' cursory assessment of the year five through seven projects, and the action agencies' request to revoke the ACAs; NMFS and USFWS agree to terminate the ACAs with the action agencies.

Dated: September 20, 2011.
Angela Somma,
Chief, Endangered Species Division, Office of Protected Resources, National Marine Fisheries Service.

[FR Doc. 2011-25425 Filed 9-30-11; 8:45 am]

BILLING CODE 3510-22-P